DEPARTMENT OF COMMERCE

International Trade Administration

[A-122-837]

Antidumping Duty Investigation Covering Greenhouse Tomatoes from Canada: Notice of Postponement of Preliminary Determination

AGENCY: Import Administration, International Trade Administration, Department of Commerce.

ACTION: Notice of postponement of preliminary antidumping duty determination in antidumping duty investigation.

EFFECTIVE DATES: August 21, 2001.

FOR FURTHER INFORMATION CONTACT: Mark Ross or Minoo Hatten, AD/CVD Enforcement 3, Import Administration, International Trade Administration, U.S. Department of Commerce, 14th Street and Constitution Avenue, NW., Washington, DC 20230; telephone; (202) 482-4794 or (202) 482-1690, respectively.

SUMMARY: The Department of Commerce is postponing the preliminary determination of the antidumping duty investigation on greenhouse tomatoes from Canada from September 4, 2001, until September 24, 2001. This extension is made pursuant to section 733(c)(1)(B) of the Tariff Act of 1930, as amended by the Uruguay Round Agreements Act.

SUPPLEMENTARY INFORMATION:

The Applicable Statute and Regulations

Unless otherwise indicated, all citations to the statute are references to the provisions effective January 1, 1995, the effective date of the amendments made to the Tariff Act of 1930 (the Act) by the Uruguay Round Agreements Act. In addition, unless otherwise indicated, all citations to Department of Commerce's (the Department's) regulations are to 19 CFR part 351 (2000).

Background

On April 17, 2001, the Department initiated an antidumping duty investigation on greenhouse tomatoes from Canada covering manufacturers and exporters of the subject merchandise to the United States during the period January 1, 2000, through December 31, 2000. See Initiation of Antidumping Duty Investigation: Greenhouse Tomatoes From Canada, 66 FR 20630 (April 24, 2001). The notice stated that, unless postponed, the Department would issue its preliminary determination no later than 140 days after the date of the initiation.

Postponement of Preliminary Determination

Pursuant to section 733(c)(1)(A) of the Act and 19 CFR 351.205(e), on August 10, 2001, the petitioners filed a request that the Department postpone the preliminary determination for the investigation covering greenhouse tomatoes from Canada. The petitioners' request for postponement was timely, and the Department finds no compelling reason to deny the request.

Therefore, pursuant to section 733(c)(1)(A) of the Act, we are postponing the preliminary determination in this investigation until September 24, 2001. This notice is issued and published pursuant to section 733(c)(2) of the Act and 19 CFR 351.205(f).

Dated: August 15, 2001.
Bernard T. Carreau,
Acting Assistant Secretary, Import Administration.

[FR Doc. 01-21076 Filed 8-20-01; 8:45 am]

BILLING CODE 3510-DS-M